DEPARTMENT OF VETERANS AFFAIRS

Advisory Committee on Prosthetics and Special-Disabilities Programs, Notice of Charter Renewal

This gives notice under the Federal Advisory Committee Act (Public Law 92-463) of October 6, 1972, that the Advisory Committee on Prosthetics and Special-Disabilities has been nenewed for a 2-year period beginning August 2, 2000, through August 2, 2002.

Dated: August 8, 2000.
By direction of the Acting Secretary.
Marvin R. Eason,
Committee Management Officer.

[FR Doc. 00-21310 Filed 8-21-00; 8:45 am]

BILLING CODE 8320-01-M